UNIFIED CARRIER REGISTRATION PLAN

Sunshine Act Meetings

TIME AND DATE: December 5, 2024, 11:00 a.m. to 3:00 p.m., Eastern Time.

PLACE: The meeting will take place at the Drayton Hotel, 7 Drayton Street, Savannah, GA 31401. The meeting will also be accessible via conference call and via Zoom Meeting and Screenshare. Any interested person may call (i) 1-929-205-6099 (U.S. Toll) or 1-669-900-6833 (U.S. Toll), Meeting ID: 963 5921 6055, to listen and participate in this meeting. The website to participate via Zoom Meeting and Screenshare is https://kellen.zoom.us/meeting/register/tJIucuCqrz0qH9EDakrRpzCkyzS8FYCUhR6x.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda.

IV. Approval of Minutes of the October 24, 2024, UCR Board Meeting—UCR Board Chair

For Discussion and Possible Board Action

Draft Minutes from the October 24, 2024, UCR Board meeting will be reviewed. The Board will consider action to approve.

V. Report of FMCSA—FMCSA Representative

The Federal Motor Carrier Safety Administration (FMCSA) will provide a report on any relevant agency activity.

VI. Subcommittee Reports

Audit Subcommittee—UCR Audit Subcommittee Chair

A. Update on State Performance Standards—UCR Audit Subcommittee Chair, UCR Audit Subcommittee Vice-Chair, DSL Transportation Representative, SeikoSoft Representative

The UCR Audit Subcommittee Chair, the UCR Audit Subcommittee Vice-Chair, a DSL Transportation representative, and a SeikoSoft representative will lead a discussion on the status of the State Performance Standards as of November 1, 2024. The discussion will also include current and potential future options to assist states with their performance initiatives.

B. Update on the Recent Question and Answer Session for State Auditors—UCR Audit Subcommittee Chair, UCR Audit Subcommittee Vice-Chair, and Executive Director

The UCR Audit Subcommittee Chair, the UCR Audit Subcommittee Vice-Chair, and the Executive Director will lead a discussion on the topics, value, and continuation of a series of 60-minute virtual question and answer sessions for state auditors.

Dispute Resolution Subcommittee—UCR Dispute Resolution Subcommittee Chair No Report

Education and Training Subcommittee—UCR Education and Training Subcommittee Chair

The UCR Education and Training Subcommittee Chair will discuss the development of key projects. The projects that will be discussed include the development of the educational audit certificate program, the optimization and redesign of the website, and the creation of a video explaining the purpose and value of the UCR Plan and the National Registration System it operates.

Enforcement Subcommittee—UCR Enforcement Subcommittee Chair

The UCR Enforcement Subcommittee Chair will provide an update on current and planned initiatives, including efforts to enhance UCR enforcement efficiency, recognition of states and inspectors, and forthcoming awareness initiatives.

Finance Subcommittee—UCR Finance Subcommittee Chair and UCR Depository Manager

A. UCR Administrative Fund Update—UCR Finance Subcommittee Chair and UCR Depository Manager

The UCR Finance Subcommittee Chair and UCR Depository Manager will provide an update on the financial status of the administrative fund for the 10 months ended October 31, 2024.

B. Discussion and Possible Approval of 2025 UCR Plan Administrative Budget—UCR Finance Subcommittee Chair and UCR Depository Manager

For Discussion and Possible Board Action

The UCR Finance Subcommittee Chair and UCR Depository Manager will discuss the 2025 proposed administrative fund budget as approved by the Finance Subcommittee on 10/3/2024. The Board may take action to approve the 2025 administrative fund budget. Additionally, the creation of a legal reserve fund for 2025 and beyond will be discussed. The Board may take action to approve creating a legal reserve fund.

Industry Advisory Subcommittee—UCR Industry Advisory Subcommittee Chair

The UCR Industry Advisory Subcommittee Chair will provide an update on current and planned initiatives, to include the development of a video intended to increase participation in the UCR focused on brokers, motor carriers, and bus operators.

VII. Contractor Reports—UCR Board Chair

UCR Executive Director Report

The UCR Executive Director will provide a report covering his recent activity for the UCR Plan including any changes in the dates of UCR meetings in 2025.

UCR Administrator Report (Kellen)

The UCR Chief of Staff will provide a management update covering recent activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

VIII. Other Business—UCR Board Chair

The UCR Board Chair will call for any other business, old or new, from the floor.

IV. Adjournment—UCR Board Chair

The UCR Board Chair will adjourn the meeting.

The agenda will be available no later than 5:00 p.m. Eastern time, November 26, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-28330 Filed 11-29-24; 11:15 am]

BILLING CODE 4910-YL-P